DEPARTMENT OF COMMERCE

National Oceanic and Atmospheric Administration

[I.D. 061306E]

New England Fishery Management Council; Public Meeting

AGENCY: National Marine Fisheries Service (NMFS), National Oceanic and Atmospheric Administration (NOAA), Commerce.

ACTION: Notice of a committee meeting.

SUMMARY: The New England Fishery Management Council's (Council) Joint Herring Oversight Committee and Advisory Panel will meet to consider actions affecting New England fisheries in the exclusive economic zone (EEZ).

DATES: The meeting will be held on Thursday, July 6, 2006, at 9 a.m.

ADDRESSES: The meeting will be held at the Holiday Inn by the Bay, 88 Spring Street, Portland, ME 04101; telephone: (207) 775-2311.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee and panel's agenda are as follows:

1. Review and discuss 2006 Atlantic Herring Transboundary Resources Assessment Committee (TRAC) Assessment results;

2. Review available updated herring fishery information.

3. Develop preliminary recommendations for Atlantic herring specifications for the 2007-09 fishing years: allowable biological catch (ABC), optimum yield (OY), domestic annual harvest (DAH), domestic annual processing (DAP), joint venture processing (JVP), U.S. At-Sea Processing (USAP), Border Transfer (BT), Total Allowable Level of Foreign Fishing (TALFF).

4. Develop options for total allowable catch (TAC) set-asides for research during the 2008 and 2009 fishing years.

5. Develop area-specific TAC options (2007-09) for further analysis by Herring Plan Development Team (PDT).

6. Discuss Amendment 1 submission status and related issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: June 14, 2006.
Tracey L. Thompson,
Acting Director, Office of Sustainable Fisheries, National Marine Fisheries Service.

[FR Doc. E6-9558 Filed 6-16-06; 8:45 am]

BILLING CODE 3510-22-S